DEPARTMENT OF ENERGY

Federal Energy Regulatory Commission

Combined Notice of Filings #1

Take notice that the Commission received the following exempt wholesale generator filings:

Docket Numbers: EG26-127-000.

Applicants: Steel River Solar I, LLC.

Description: Steel River Solar I, LLC submits Notice of Self-Certification of Exempt Wholesale Generator Status.

Filed Date: 1/12/26.

Accession Number: 20260112-5190.

Comment Date: 5 p.m. ET 2/2/26.

Docket Numbers: EG26-128-000.

Applicants: Pastoria Power, LLC.

Description: Pastoria Power, LLC submits Notice of Self-Certification of Exempt Wholesale Generator Status.

Filed Date: 1/12/26.

Accession Number: 20260112-5198.

Comment Date: 5 p.m. ET 2/2/26.

Docket Numbers: EG26-129-000.

Applicants: Steel River Solar II, LLC.

Description: Steel River Solar II, LLC submits Notice of Self-Certification of Exempt Wholesale Generator Status.

Filed Date: 1/12/26.

Accession Number: 20260112-5205.

Comment Date: 5 p.m. ET 2/2/26.

Docket Numbers: EG26-130-000.

Applicants: Pastoria Solar Energy Company, LLC.

Description: Pastoria Solar Energy Company, LLC submits Notice of Self-Certification of Exempt Wholesale Generator Status.

Filed Date: 1/12/26.

Accession Number: 20260112-5214.

Comment Date: 5 p.m. ET 2/2/26.

Docket Numbers: EG26-131-000.

Applicants: Steel River Solar III, LLC.

Description: Steel River Solar III, LLC submits Notice of Self-Certification of Exempt Wholesale Generator Status.

Filed Date: 1/12/26.

Accession Number: 20260112-5220.

Comment Date: 5 p.m. ET 2/2/26.

Docket Numbers: EG26-132-000.

Applicants: Abundance Energy Consortium, LLC.

Description: Abundance Energy Consortium, LLC submits Notice of Self-Certification of Exempt Wholesale Generator Status.

Filed Date: 1/12/26.

Accession Number: 20260112-5258.

Comment Date: 5 p.m. ET 2/2/26.

Docket Numbers: EG26-133-000.

Applicants: Elawan Neutron Storage, LLC.

Description: Elawan Neutron Storage, LLC submits Notice of Self-Certification of Exempt Wholesale Generator Status.

Filed Date: 1/13/26.

Accession Number: 20260113-5072.

Comment Date: 5 p.m. ET 2/3/26.

Take notice that the Commission received the following electric rate filings:

Docket Numbers: ER22-2580-002.

Applicants: CPV Three Rivers, LLC.

Description: Response to 12/11/2025, Deficiency Letter of CPV Three Rivers, LLC.

Filed Date: 1/12/26.

Accession Number: 20260112-5157.

Comment Date: 5 p.m. ET 2/2/26.

Docket Numbers: ER24-2033-003.

Applicants: GridLiance High Plains LLC.

Description: Compliance filing: GHP Amendment to Further Compliance Filing to be effective 9/1/2024.

Filed Date: 1/13/26.

Accession Number: 20260113-5077.

Comment Date: 5 p.m. ET 2/3/26.

Docket Numbers: ER24-2034-003.

Applicants: GridLiance Heartland LLC.

Description: Compliance filing: GLH Amendment to Further Compliance Filing to be effective 9/1/2024.

Filed Date: 1/13/26.

Accession Number: 20260113-5076.

Comment Date: 5 p.m. ET 2/3/26.

Docket Numbers: ER25-3482-000; ER25-3483-000.

Applicants: Duke Energy Carolinas, LLC, Duke Energy Progress, LLC.

Description: Refund Report Informational Filing of Duke Energy Carolinas, LLC and Duke Energy Progress, LLC to comply with the 11/21/2025 Commission's order.

Filed Date: 1/9/26.

Accession Number: 20260109-5244.

Comment Date: 5 p.m. ET 1/30/26.

Docket Numbers: ER26-188-001.

Applicants: Gonzaga Ridge Battery Facility, LLC.

Description: Tariff Amendment: Response to Deficiency Letter, Revised MBR Tariff & Request for Expedited Action to be effective 12/20/2025.

Filed Date: 1/13/26.

Accession Number: 20260113-5114.

Comment Date: 5 p.m. ET 1/23/26.

Docket Numbers: ER26-190-001.

Applicants: Gonzaga Ridge Wind Farm, LLC.

Description: Tariff Amendment: Response to Deficiency Letter, Revised MBR Tariff & Request for Expedited Action to be effective 12/20/2025.

Filed Date: 1/13/26.

Accession Number: 20260113-5131.

Comment Date: 5 p.m. ET 1/23/26.

Docket Numbers: ER26-404-001.

Applicants: Public Service Company of Colorado.

Description: Tariff Amendment: 2026-01-12—CORE—NITSA/NOA—778—802—Response to Deficiency Letter to be effective 1/1/2026.

Filed Date: 1/12/26.

Accession Number: 20260112-5210.

Comment Date: 5 p.m. ET 2/2/26.

Docket Numbers: ER26-1014-000.

Applicants: Highland North LLC, Patton Wind Farm, LLC, Twin Ridges LLC, Cambria Wind, LLC.

Description: § 205(d) Rate Filing: Cambria Wind, LLC submits tariff filing per 35.13(a)(2)(iii: Cambria Wind Errata of Non-Material Change in Status; Revised MBR Tariff to be effective 3/13/2026.

Filed Date: 1/12/26.

Accession Number: 20260112-5178.

Comment Date: 5 p.m. ET 2/2/26.

Docket Numbers: ER26-1015-000.

Applicants: Southwest Power Pool, Inc.

Description: § 205(d) Rate Filing: Attachment AF Revisions to Clarify the Calculation of Mitigated Offers to be effective 3/14/2026.

Filed Date: 1/12/26.

Accession Number: 20260112-5187.

Comment Date: 5 p.m. ET 2/2/26.

Docket Numbers: ER26-1016-000.

Applicants: California Independent System Operator Corporation.

Description: § 205(d) Rate Filing: 2026-01-12 Second Amendment of Service Agmt. No. 457 & Request for Notice Waiver to be effective 1/13/2026.

Filed Date: 1/12/26.

Accession Number: 20260112-5203.

Comment Date: 5 p.m. ET 2/2/26.

Docket Numbers: ER26-1017-000.

Applicants: Pastoria Energy Facility L.L.C.

Description: Initial rate filing: Filing of Amended and Restated Shared Facilities Agreement and Req. for Waivers to be effective 1/13/2026.

Filed Date: 1/12/26.

Accession Number: 20260112-5219.

Comment Date: 5 p.m. ET 2/2/26.

Docket Numbers: ER26-1018-000.

Applicants: American Transmission Systems, Incorporated.

Description: § 205(d) Rate Filing: ATSI submits Construction Agmt SA No. 7492 to be effective 3/15/2026.

Filed Date: 1/13/26.

Accession Number: 20260113-5013.

Comment Date: 5 p.m. ET 2/3/26.

Docket Numbers: ER26-1019-000.

Applicants: PJM Interconnection, L.L.C.

Description: § 205(d) Rate Filing: Amendment to GIA No. 7438; Project Identifier No. AF2-421/AG1-164/AG1-165 to be effective 3/15/2026.

Filed Date: 1/13/26.

Accession Number: 20260113-5015.

Comment Date: 5 p.m. ET 2/3/26.

Docket Numbers: ER26-1020-000.

Applicants: Murphy Solar, LLC, Bells Solar, LLC.

Description: Request for Limited Waiver of Section 301(A)(3)(b)(iii) of the PJM Tariff to permit PJM to refund the Murphy Solar, LLC and Bells Solar, LLC Readiness Deposits of SunEnergy1, LLC and SE1 Devco, LLC.

Filed Date: 1/9/26.

Accession Number: 20260109-5243.

Comment Date: 5 p.m. ET 1/30/26.

Docket Numbers: ER26-1021-000.

Applicants: Midcontinent Independent System Operator, Inc.

Description: § 205(d) Rate Filing: 2026-01-13_SA 4655 Ameren IL-IPRG GIA (R1055) to be effective 12/31/2025.

Filed Date: 1/13/26.

Accession Number: 20260113-5023.

Comment Date: 5 p.m. ET 2/3/26.

Docket Numbers: ER26-1022-000.

Applicants: PJM Interconnection, L.L.C.

Description: § 205(d) Rate Filing: Amendment to ISA, Service Agreement No. 6245; Queue No. AE2-221 to be effective 3/15/2026.

Filed Date: 1/13/26.

Accession Number: 20260113-5033.

Comment Date: 5 p.m. ET 2/3/26.

Docket Numbers: ER26-1023-000.

Applicants: PJM Interconnection, L.L.C.

Description: § 205(d) Rate Filing: Amendment to ISA, Service Agreement No. 6812; Queue No. AE1-146 to be effective 3/15/2026.

Filed Date: 1/13/26.

Accession Number: 20260113-5035.

Comment Date: 5 p.m. ET 2/3/26.

Docket Numbers: ER26-1024-000.

Applicants: Midcontinent Independent System Operator, Inc.

Description: § 205(d) Rate Filing: 2026-01-13_SA 4345 DPC-Maple Grove Solar I 1st Rev GIA (J1808) to be effective 12/23/2025.

Filed Date: 1/13/26.

Accession Number: 20260113-5047.

Comment Date: 5 p.m. ET 2/3/26.

Docket Numbers: ER26-1025-000.

Applicants: Idaho Power Company.

Description: § 205(d) Rate Filing: RS No. 184—Concurrence NorthWestern Energy/IPC Construction Agreement to be effective 3/4/2026.

Filed Date: 1/13/26.

Accession Number: 20260113-5078.

Comment Date: 5 p.m. ET 2/3/26.

Docket Numbers: ER26-1026-000.

Applicants: Southern California Edison Company.

Description: § 205(d) Rate Filing: 1st Amend UFA, Centennial Flats (TOT899/SA300) to be effective 1/14/2026.

Filed Date: 1/13/26.

Accession Number: 20260113-5086.

Comment Date: 5 p.m. ET 2/3/26.

Docket Numbers: ER26-1027-000.

Applicants: Idaho Power Company.

Description: § 205(d) Rate Filing: SA #414—Second Revised NITSA Between Idaho Power Company and PacifiCorp to be effective 4/1/2026.

Filed Date: 1/13/26.

Accession Number: 20260113-5096.

Comment Date: 5 p.m. ET 2/3/26.

Docket Numbers: ER26-1028-000.

Applicants: PJM Interconnection, L.L.C.

Description: § 205(d) Rate Filing: Amendment to GIA, SA No. 7617; Project Identifier No. AC2-176/AG1-017 to be effective 3/15/2026.

Filed Date: 1/13/26.

Accession Number: 20260113-5113.

Comment Date: 5 p.m. ET 2/3/26.

Docket Numbers: ER26-1029-000.

Applicants: SR Georgia Portfolio I MT, LLC.

Description: Tariff Amendment: Notice of Cancellation of Market-Based Rate Tariff to be effective 1/14/2026.

Filed Date: 1/13/26.

Accession Number: 20260113-5118.

Comment Date: 5 p.m. ET 2/3/26.

Docket Numbers: ER26-1030-000.

Applicants: AEP Texas Inc.

Description: § 205(d) Rate Filing: AEPTX-Abeja Solar Farm Generation Interconnection Agreement to be effective 12/16/2025.

Filed Date: 1/13/26.

Accession Number: 20260113-5151.

Comment Date: 5 p.m. ET 2/3/26.

Docket Numbers: ER26-1031-000.

Applicants: Commonwealth Edison Company.

Description: § 205(d) Rate Filing: Filing of tSA between ComEd and Grundy to be effective 3/15/2026.

Filed Date: 1/13/26.

Accession Number: 20260113-5156.

Comment Date: 5 p.m. ET 2/3/26.

Docket Numbers: ER26-1032-000.

Applicants: Commonwealth Edison Company.

Description: § 205(d) Rate Filing: Filing of TSA between ComEd and PowerHouse Hillwood to be effective 3/15/2026.

Filed Date: 1/13/26.

Accession Number: 20260113-5159.

Comment Date: 5 p.m. ET 2/3/26.

Take notice that the Commission received the following public utility holding company filings:

Docket Numbers: PH26-6-000.

Applicants: Consumers Energy Company.

Description: CMS Energy Corporation submits FERC 65-B Notice of Change in Fact to Waiver Notification.

Filed Date: 1/12/26.

Accession Number: 20260112-5259.

Comment Date: 5 p.m. ET 2/2/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: January 13, 2026.
Carlos D. Clay,
Deputy Secretary.

[FR Doc. 2026-00823 Filed 1-15-26; 8:45 am]

BILLING CODE 6717-01-P